SECURITIES AND EXCHANGE COMMISSION

[Release No.: 34-98672]

Public Availability of the Securities and Exchange Commission's Fiscal Year (FY) 2020 Service Contract Inventory

AGENCY: Securities and Exchange Commission.

ACTION: Notice.

SUMMARY: In accordance with section 743 of division C of the Consolidated Appropriations Act of 2010, the SEC is publishing this notice to advise the public of the availability of the FY2020 Service Contract Inventory (SCI) along with the FY2021 SCI Planned Analysis.

FOR FURTHER INFORMATION CONTACT: Direct questions regarding the service contract inventory to Vance Cathell, Director Office of Acquisitions 202.551.8385 or CathellV@sec.gov.

SUPPLEMENTARY INFORMATION: The SCI provides information on FY2020 actions over $150,000 for service contracts. The inventory organizes the information by function to show how SEC distributes contracted resources throughout the agency. The SEC developed the inventory per the guidance issued on January 17, 2017, by the Office of Management and Budget's Office of Federal Procurement Policy (OFPP). OFPP's guidance is available at https://www.whitehouse.gov/sites/whitehouse.gov/files/omb/memoranda/2017/service_contract_inventories.pdf.

The Service Contract Inventory Analysis for FY2020 provides information based on the FY 2020 Inventory. Please note that the SEC's FY 2020 Service Contract Inventory data is now included in government-wide inventory available on https://www.acquisition.gov. The government-wide inventory can be filtered to display the inventory data for the SEC. The SEC has posted the FY 2020 SCI Analysis and its FY 2021 plans for analyzing data on the SEC's homepage at https://www.sec.gov/about/secreports.shtml and https://www.sec.gov/open.

Dated: October 2, 2023.
Vanessa A. Countryman,
Secretary.

[FR Doc. 2023-22192 Filed 10-4-23; 8:45 am]

BILLING CODE 8011-01-P